DEPARTMENT OF TRANSPORTATION

National Highway Traffic Safety Administration

[Docket No. NHTSA-2007-0030; Notice 2]

Graco Children's Products, Inc.; Grant of Petition for Decision of Inconsequential Noncompliance

Graco Children's Products, Inc. (Graco) has determined that certain child restraint systems that it recently manufactured do not comply with labeling requirements pertaining to stating the National Highway Traffic Safety Administration's (NHTSA) Vehicle Safety Hotline (Hotline) number and Graco's Web site registration address in paragraph S5.5.2(m) of 49 CFR 571.213, Federal Motor Vehicle Safety Standard (FMVSS) No. 213, Child Restraint Systems. On October 26, 2007, Graco filed an appropriate report pursuant to 49 CFR part 573, Defect and Noncompliance Responsibility and Reports identifying several million child restraint systems manufactured between June 21, 2006 and October 26, 2007 that do not comply with the paragraph of FMVSS No. 213 cited above. On November 30, 2007, Graco filed an amended report pursuant to 49 CFR Part 573 that corrected the time frame for the noncompliant child restraints identified in the October 26, 2007 report. Graco now has determined that all child restraint systems that it manufactured between November 28, 2005 and October 29, 2007, and certain child restraint systems that it manufactured between September 1, 2006 and October 29, 2007, do not comply with the paragraph of FMVSS No. 213 cited above. Affected are over eight million child restraint systems.

Pursuant to 49 U.S.C. 30118(d) and 30120(h) and the rule implementing those provisions at 49 CFR Part 556, Graco has petitioned for an exemption from the notification and remedy requirements of 49 U.S.C. Chapter 301 on the basis that this noncompliance is inconsequential to motor vehicle safety. Notice of receipt of the petition was published, with a 10-day public comment period, on November 8, 2007 in the Federal Register (72 FR 63231). Although the text of that notice clearly indicated that only 10 days would be permitted for comments, the notice as published showed a comment closing date of December 10, 2007. On November 16, 2007, a correction notice (72 FR 64708) was published showing the correct comment closing date, which was November 19, 2007. No comments were received. To view the petition and all supporting documents log onto the Federal Docket Management System (FDMS) Web site at: http://www.regulations.gov/. Then pull down the “Search for Dockets” menu tab and follow the online search instructions to locate docket number “NHTSA-2007-0030.”

For further information on this decision, contact Mr. Zachary R. Fraser, Office of Vehicle Safety Compliance, the National Highway Traffic Safety Administration (NHTSA), telephone (202) 366-5754, facsimile (202) 366-7002.

Paragraph S5.5.2(m) of 49 CFR 571.213 requires that a child restraint system be permanently labeled with:

(m) One of the following statements, inserting an address and a U.S. telephone number. If a manufacturer opts to provide a Web site on the registration card as permitted in Figure 9a of this section, the manufacturer must include the statement in part (ii):

(i) “Child restraints could be recalled for safety reasons. You must register this restraint to be reached in a recall. Send your name, address, e-mail address if available (preceding four words are optional) and the restraint's model number and manufacturing date to (insert address) or call (insert a U.S. telephone number). For recall information, call the U.S. Government's Vehicle Safety Hotline at 1-888-327-4236 (TTY: 1-800-424-9153), or go to http://www.NHTSA.gov.”

(ii) “Child restraints could be recalled for safety reasons. You must register this restraint to be reached in a recall. Send your name, address, e-mail address if available [preceding four words are optional], and the restraint's model number and manufacturing date to (insert address) or call (insert a U.S. telephone number) or register online at (insert Web site for electronic registration form). For recall information, call the U.S. Government's Vehicle Safety Hotline at 1-888-327-4236 (TTY: 1-800-424-9153), or go to http://www.NHTSA.gov.”

There are comparable requirements beyond these labeling requirements. See S5.6.1.7 of 49 CFR 571.213 concerning printed instructions.

Graco explained that all subject child restraint systems failed to comply with the above requirements because labels attached to them did not include Graco's Web site address for electronic registration, which is required when the manufacturer chooses to provide a Web site on the registration card. In addition, some models of these restraint systems also had labels that included an incorrect NHTSA Hotline telephone number. Graco stated that it has corrected the problem that caused these errors so that they will not be repeated in future production.

Graco stated that although the Hotline number printed on the labels is incorrect (i.e., the labels show a NHTSA Hotline telephone number that the agency once used but had relinquished its rights to), Graco has procured the former Hotline number and is prepared to have all calls to that outdated number automatically routed to the correct number (i.e., the current NHTSA Hotline number) for a period of 7 years.

Graco additionally stated that although its electronic registration Web site address is not on the restraint systems, its toll-free telephone number appears in at least two places on all the restraint systems. Also, full contact information, including the Graco's company Web site address, appears in the owner's manual of every child restraint system manufactured by Graco.

Graco stated that neither the incorrect NHTSA Hotline number nor the absence of Graco's Web site address have any effect on the crashworthiness of the restraint systems. Therefore, Graco stated that these noncompliances are inconsequential to motor vehicle safety.

In addition, Graco proposed two measures as “an interim solution to bring infant and child seats produced with the incorrect label into substantial compliance.” First, Graco reiterated its proposal to have calls to the incorrect NHTSA Hotline number automatically rerouted to the correct number, which has been made possible by Graco's obtaining the rights to the old number. Graco also proposed to send a broadcast e-mail to certain consumers about the importance of registration of their child restraint systems. The e-mail would include a direct link to Graco's online registration Web site and be sent to approximately 570,000 consumers who have either created baby registries through Graco, requested Graco's newsletter, or whose names have been acquired from prenatal lists. Graco believes that providing the direct Graco online registration link will allow those consumers to register their Graco-brand seats once they have received the e-mail.

NHTSA Decision

NHTSA regulations specify that child seat manufacturers must provide the telephone number for the Vehicle Safety Hotline so that consumers concerned about safety recalls or potential safety-related defects could contact the agency. That telephone number has been changed. A rule published on June 21, 2005, in the Federal Register (70 FR 35556) revised the relevant section of the regulations to state the new telephone number. The effective date for the new telephone number was June 21, 2006; however, NHTSA issued an amendment on June 21, 2006 (71 FR 35558) that changed the effective date of the new telephone number to September 1, 2006.

Although the Hotline number printed on the labels is not the correct number, Graco proposed to redirect calls made to the incorrect Hotline number to the current Hotline number for a period of 7 years. Since filing its petition, Graco has in fact redirected those calls so that anyone who calls the incorrect number is automatically connected to NHTSA's Hotline. NHTSA has confirmed that this change has been activated. Also, NHTSA has initiated appropriate measures to reacquire the incorrect Hotline number from Graco. Once NHTSA has re-acquired the rights to the old number, calls to that number will continue to be routed directly to the new Hotline. NHTSA therefore agrees with Graco that there is no adverse safety consequence from this aspect of the noncompliance because consumers who call the incorrect Hotline number will automatically be redirected to the current Hotline number.

Although the Graco models at issue do not have labels containing Graco's electronic registration Web site address, that address is shown on the registration cards that come with each new child restraint system. Those who purchase the seat are, therefore, immediately presented with the online registration option and the necessary Web site address where they are most likely to look for it, i.e., on the product registration card. The additional requirement that the Web site address also be on the seat label provides helpful information to owners who have not already registered by using the registration card or the online option, and may be particularly helpful for subsequent owners who have not received the registration card. However, even without the Web site information, the noncompliant label provides the important information that registration is essential to being notified of a recall, explains what information needs to be submitted for registration, and provides Graco's mailing address and telephone number for that purpose. Therefore, any owner who reads the label will be informed of the importance of registration and provided with two methods for accomplishing registration. Also, Graco's company Web site address appears in every owner's manual, so a person intent on registering the seat online could readily determine how to do so.

The only risk created by the noncompliance is that someone who wished to register the seat online but either ignored the online registration information on the registration card, or never had the card, would choose not to register the seat despite the ability to do so by mail, telephone, or by locating the Web site information in the owner's manual or through a simple online search. We think the likelihood is far greater that a person interested in registering the seat would use one of the available options. Although provision of information for registration of child seats is very important and inclusion of the Web site address on the label is one way of making registration easier, we think the risk created by this particular noncompliance is very slight and inconsequential to motor vehicle safety.

In consideration of the foregoing, NHTSA has decided that Graco has met its burden of persuasion that the labeling noncompliances described are inconsequential to motor vehicle safety. Accordingly, Graco's petition is granted and the petitioner is exempted from the obligation of providing notification of, and a remedy for, the noncompliances under 49 U.S.C. 30118 and 30120.

Authority: 49 U.S.C. 30118, 30120; delegations of authority at 49 CFR 1.50 and 501.8.

Issued on: December 13, 2007.
Daniel C. Smith,
Associate Administrator for Enforcement.

[FR Doc. E7-24702 Filed 12-19-07; 8:45 am]

BILLING CODE 4910-59-P